AGENCY FOR INTERNATIONAL DEVELOPMENT

30-Day Notice of Proposed Information Collection-Development Information Solution

AGENCY: Bureau for Management, Office of Acquisition and Assistance, Policy Division, United States Agency for International Development (USAID).

ACTION: Notice of request for public comment.

SUMMARY: The U.S. Agency for International Development (USAID) seeks Office of Management and Budget (OMB) approval for the information collection described below. In accordance with the Paperwork Reduction Act of 1995, USAID requests public comment on this collection from all interested individuals and organizations. The proposed information collection was published in the Federal Register on December 21, 2020, allowing for a 60-day public comment period. The purpose of this notice is to allow an additional 30 days for public comment. Comments are requested concerning whether the proposed collection of information is necessary for the proper performance of functions of the agency, including the practical utility of the information; the accuracy of USAID's estimate of the burden of the proposed collection of information; ways to enhance the quality, utility, and clarity of the information to be collected; and ways to minimize the burden of the collection of information on respondents.

DATES: Comments must be received no later than June 24, 2021.

ADDRESSES: Interested persons are invited to submit comments regarding the proposed information collection to the Office of Information and Regulatory Affairs of OMB, Attention: Desk Officer for USAID.

FOR FURTHER INFORMATION CONTACT: Direct requests for additional information regarding the collection listed in this notice, including requests for a copy of the Development Information Solution System Access Request Form, AID 545-11 (11/2020), to Marcelle Wijesinghe at 202-916-2606 or via email at mwijesinghe@usaid.gov.

SUPPLEMENTARY INFORMATION: Notice regarding this proposed information collection was previously published at 85 FR 83027. Comments were received from four respondents. A discussion of the comments is provided below. The estimated burden was increased as the result of one comment. The Agency did not address comments unrelated to, or outside the scope of, the notice at 85 FR 83027.

Discussion of Comments

Comment: The Agency received several questions about the timeframe of the pilot.

Response: The pilot will start following OMB approval of the information collection. The pilot will terminate upon the effective date of the rulemaking to be conducted under RIN 0412-AA90. This information collection request will be updated in conjunction with the rulemaking to cover the full range of digital information for which submission will be required into DIS.

Comment: The Agency received two questions asking which contractors and recipients will be included in the pilot and the affected geographic locations.

Response: The Agency plans to require submission of indicator information into DIS under awards issued by the following Pilot missions: El Salvador Bilateral, El Salvador Regional, Ethiopia, Nepal, Peru, Rwanda, South Africa Bilateral, South Africa Regional, Vietnam, Guatemala, Libya, Ukraine, Bangladesh, Philippines and Zimbabwe. The Agency will provide guidance to permit contractors and recipients implementing awards issued by other missions to request access to DIS and submit indicator information on a voluntary basis. This guidance for the voluntary submission of indicator information will not have the force or effect of law. The burden estimates are based on the Agency's awards worldwide that are most likely to contain requirements for the submission of indicator information.

Comment: One comment asked how the success of the pilot would be measured.

Response: The success of the Pilot will be measured primarily by the ability of contractors and recipients to log in and enter data and whether the contracting officer's representative (COR)/agreement officer's representative (AOR) reviewed and approved the content.

Comment: One comment asked how USAID would ensure data quality of the information entered into DIS.

Response: CORs and AORs will be responsible for reviewing and approving the indicator information submitted by contractors and recipients.

Comment: One comment asked how implementers would know which activities to report to DIS.

Response: A special requirement will be added to new and existing awards that are issued by the pilot missions, if the award has requirements for indicator information. When award deliverables include relevant performance indicators of the activity's outputs and outcomes, the contractor or recipient will be required to submit the following indicator information into DIS: (1) Indicator data, disaggregated by key categories of interest, including geographic location at a level that is feasible and useful for management purposes; and (2) Indicator narratives, including when the deviation between the target and actual value is greater or less than 10 percent. If the award does not contain separate requirements for indicator information, then the requirement to submit such information to DIS is not applicable.

Comment: One comment asked if access is limited to two persons per award.

Response: While the Agency estimated that two persons per award would obtain access to DIS to submit indicator information, affected contractors and recipients may request access for the number of employees they determine necessary to meet the submission requirements.

Comment: Two comments asked how the Agency will determine which contractors and recipients are currently collecting indicator data and deviation narrative.

Response: The Agency has no centralized mechanism to determine which awards contain requirements for indicator data or deviation narrative, which are requirements unique to each award. The determination will therefore be made by the relevant CO/AO on an award-by-award basis.

Comment: One comment questioned whether the burden hour is correct given all deliverable and other submission requirements imposed upon contractors and grantees.

Response: The burden hour is only taking into account the awards most likely to contain requirements for indicator information, since indicator information is the only information required to be submitted to DIS under the pilot.

Comment: One comment asked how many contractors and grantees are included in the pilot.

Response: We have not calculated the number of contractors and recipients in the Pilot, because the burden is calculated based on the number of awards.

Comment: One comment asked how many awards will be included in the pilot.

Response: The information collection has two components: The one-time DIS Access Request, and the quarterly Indicator Information Submission. We estimate that approximately 1,184 awards will be affected annually for the purpose of requesting DIS access. We estimate that approximately 2,809 awards will be impacted annually for the purpose of submitting indicator information. Approximately 400 of these awards are issued by the 15 missions participating in the Pilot. However, the burden estimates are based on the number of Agency awards worldwide that are most likely to contain requirements for the submission of indicator information, to allow contractors and recipients with awards issued by non-Pilot missions to request access to DIS and to submit indicator information to DIS on a voluntary basis.

Comment: Two commenters asked questions related to whether the requirement to submit indicator information into DIS would affect or supersede other requirements to submit indicator information and how the indicator data submitted into DIS would affect indicator data reported under other award terms and conditions.

Response: The pilot will not affect requirements related to USAID's Development Experience Clearinghouse (DEC) and the Development Data Library (DDL), nor will it supersede deliverable or reporting requirements in current awards. However, the initial design of DIS will contain links to the DEC and DDL systems so that contractors and recipients can fulfill DEC and DDL submission requirements while navigating the DIS interface. As these system development efforts mature, USAID ultimately intends to provide a single web address through which to submit digital information as required by their awards, rather than having to meet multiple submission requirements across multiple systems.

Comment: Two comments were received regarding the estimated reporting time per quarter. One comment asked how much time USAID estimated was required per award per quarter. The second comment advised that USAID had underestimated the burden hours required for indicator submission and recommended that the burden be revised to 150 minutes, rather than 15 minutes, per submission of indicator information. The recommendation was based on an estimated average of 10 indicators per award and an average response burden of 15 minutes per indicator (15 minutes × 10 indicators equals 150 minutes, or 2.5 hours).

Response: USAID agreed with the recommendation and revised the estimated burden from 15 minutes per quarter per award to 2.5 hours per quarter per award, increasing the annual burden hours from 2,809 to 28,090.

Comment: Several comments were submitted noting that the 60-day notice contained different information from information regarding DIS that USAID has made publicly available through its website.

Response: Most of these comments are beyond the scope of the 60-day notice because the Frequently Asked Questions are about the broader capabilities of DIS and planned future use, rather than the narrow subset of indicator information to be submitted under the pilot. Comments we determined relevant to the pilot have separate responses within this discussion.

Comment: One comment asked whether baselines and targets in DIS are the same as in the award.

Response: The targets and baselines are agreed between CORs/AORs and contractors/recipients, when the award requires an Activity Monitoring, Evaluation, and Learning Plan. The target and baseline data will be entered into DIS by USAID.

Comment: Two comments asked whether implementers will be required to load data associated with their activities.

Response: DIS already contains basic award information from USAID's Global Acquisition and Assistance System. Contractors and recipients will enter indicator data and narratives, including on the deviation between indicator targets and actuals during the pilot.

Comment: One comment asked what approvals AORs/CORs will provide through DIS and how this affects delegations in the AOR/COR delegation letter.

Response: It is the responsibility of CORs and AORs to review and approve the indicator data and narratives submitted by contractors and recipients. We do not anticipate any changes to the delegations in the AOR/COR delegation letters as this review and approval is within the scope of the delegated duties.

Comment: One comment asked whether partners would assign geographic locations for activities during the Pilot.

Response: For awards in the Pilot, when award deliverables and reporting include indicator data, the contractor or recipient may be requested to provide disaggregated results of geographic information at the national or, if collected, at the sub-national level.

Comment: One comment asked whether a DIS access form is relevant to the Pilot.

Response: Contractors and recipients will need to request access to DIS using either the Development Information Solution System Access Request Form, AID 545-11 (11/2020) or, when available, an electronic form integrated into DIS.

Comment: Two comments asked about the relationship between DIS and other data collections specific to missions, bureaus, and offices.

Response: USAID Operating Units will be required to migrate their data from current legacy systems into DIS as the new Agency-wide solution. Missions that have existing databases, data repositories, or applications used to manage their program Monitoring and Evaluation (M&E), may choose to migrate their data over to DIS. Plans for the decommissioning of any affected Mission legacy systems will be discussed as DIS is deployed to the Missions.

Comment: Two comments asked what other reporting systems will be eliminated or changed, and if there will be rulemaking for the changes in reporting systems.

Response: No USAID Agency-wide official reporting systems will be eliminated with the implementation of DIS. In tandem with the DIS pilot, USAID is pursuing the rulemaking process to reduce the total number of portals through which USAID contractors and recipients are required to submit digital information to USAID. USAID anticipates consolidating existing DEC and DDL submission requirements as part of this rulemaking process. More information on the proposed rule can be found at:

https://www.reginfo.gov/public/do/eAgendaViewRule?pubId=201904&RIN=0412-AA90.

Comment: One comment said that the RIN cited in the 60-day notice for future rulemaking had been withdrawn and asked about the status of the rulemaking.

Response: The rule with RIN: 0412-AA90 has not been withdrawn; it is still in the unified agenda.

Comment: Two comments asked for more information regarding the rulemaking under RIN 0412-AA90, including how the information collection would be updated during rulemaking.

Response: This information collection request will be updated in conjunction with the rulemaking to cover the full range of digital information for which submission will be required into DIS. Please see the forthcoming notice of proposed rulemaking for additional information about the rulemaking under RIN 0412-AA90 and submit comments or questions following the instructions in that notice.

Comment: One comment noted technical difficulty in setting up login.gov accounts.

Response: Contractors and recipients should contact their AORs/CORs regarding technical difficulties. The login.gov “help center” is also an available resource.

Comment: One comment noted poor alignment between DIS and the indicators contained in monitoring and evaluation plans required under awards, and recommended greater flexibility for input fields in DIS.

Response: DIS should align with the indicators contained in approved monitoring and evaluation plans, when such plans are required under awards. Contractors and recipients should contact their CORs/AORs regarding any disparities.

Comment: One comment noted character limitations for the input fields for deviation narrative were too restrictive.

Response: USAID's DIS team will consider this feedback for future system enhancement.

Comment: One comment noted that the reporting window in DIS to submit indicator data has not been long enough.

Response: Contractors and recipients should contact their CORs/AORs regarding access issues.

Purpose

USAID is implementing the Development Information Solution (DIS) Pilot to consolidate reporting, improve efficiencies, and facilitate evidence-based decision-making. The purpose of this information collection is to require USAID contractors and grant recipients who collect indicator data under their award terms to: (1) Submit information to request access to the DIS, and (2) to submit indicator information to the DIS, which is collected under special award requirements unique to each award. In order to request access to the DIS, contractors and recipients of grants and cooperation agreements will need to submit the following information to USAID using either the Development Information Solution System Access Request Form, AID 545-11 (11/2020) or, when available, an electronic form integrated into DIS: Name, contact telephone number, name of organization, Login.gov username (which is the address used for Login.gov access), award number, award expiration date, the activities for which access is requested, and a signature and date to acknowledge agreement to the listed Rules of Behavior. We estimate that two persons may request access for each award that requires the collection of indicator data.

Contractors and recipients will use the access to DIS during the pilot to submit indicator data and narratives, including on the deviation between targets and actuals, when required as a subset of performance reporting under special award requirements. We estimate that indicator information will be submitted to DIS quarterly. As the DIS pilot progresses, USAID will use information from the pilot to inform rulemaking under Regulation Identifier Number (RIN) 0412-AA90, which will require contractors and grant recipients to submit digital information required under awards through the DIS, replacing other current methods of submission. This information collection request will be updated in conjunction with the rulemaking to capture digital information submission requirements for information collected under other standard award terms.

Overview of Information Collection

(1) Title of Information Collection: USAID Development Information Solution Pilot.

(2) Type of Review: A New Information Collection.

(3) Title of the Form: Development Information Solution System Access Request Form, AID 545-11 (11/2020).

(4) Respondents: USAID contractors and grant and cooperative agreement recipients.

(5) Estimated Number of Annual Responses-DIS Access: 2,368.

(6) Estimated Number of Annual Burden Hours-DIS Access: 1,184.

(7) Estimated Number of Annual Responses-Indicator Information: 11,236.

(8) Estimated Number of Annual Burden Hours-Indicator Information: 28,090.

(9) Total Estimated Number of Annual Responses: 13,604.

(10) Total Estimated Number of Annual Burden Hours: 29,274.

Instructions

All comments must be in writing and submitted through the method(s) specified in the Addresses section above. All submissions must include the information collection title. Please include your name, title, organization, postal address telephone number, and email address in the text of the message. Please note that comments submitted in response to this Notice are public record. We recommend that you do not submit detailed personal information, Confidential Business Information, or any information that is otherwise protected from disclosure by statute.

Dated: May 19, 2021.
Mark Walther,
Senior Procurement Executive.

[FR Doc. 2021-10929 Filed 5-24-21; 8:45 am]

BILLING CODE 6116-01-P